NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Public Law 104-13. This is the second notice for public comment; the first was published in the Federal Register at 74 FR 20740, and one comment was received. NSF is forwarding the proposed renewal submission to the Office of Management and Budget (OMB) for clearance simultaneously with the publication of this second notice. The full submission may be found at: http://www.reginfo.gov/public/do/PRAMain. Comments regarding (a) Whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology, should be addressed to: Office of Information and Regulatory Affairs of OMB, Attention: Desk Officer for National Science Foundation, 725 17th Street, NW., Room 10235, Washington, DC 20503, and to Suzanne Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

FOR FURTHER INFORMATION CONTACT: Written comments regarding the information collection and requests for copies of the proposed information collection request should be addressed to Suzanne Plimpton, Reports Clearance Officer, National Science Foundation, 4201 Wilson Blvd., Rm. 295, Arlington, VA 22230, or by e-mail to splimpto@nsf.gov.

NSF may not conduct or sponsor a collection of information unless the collection of information displays a currently valid OMB control number and the agency informs potential persons who are to respond to the collection of information that such persons are not required to respond to the collection of information unless it displays a currently valid OMB control number.

SUPPLEMENTARY INFORMATION: Comment: On May 5, 2009, we published in the Federal Register (74 FR 20740) a 60-day notice of our intent to request reinstatement of this information collection authority from OMB. In that notice, we solicited public comments for 60 days ending July 6, 2009. One comment came from B. Sachau of Florham Park, NJ, via e-mail on May 5, 2009, who suggested that this information collection was already being conducted by the Department of Education.

Response: NSF assures OMB that the Information Science Education Program is not also duplicated by the Department of Education. NSF believes that because the comment does not contain suggestions for altering the collection of information for which NSF is seeking OMB approval, NSF is proceeding with the clearance request.

Title of Collection: Informal Science Education (ISE) Management Information System.

OMB Control No.: 3145-0158.

Abstract

This document has been prepared to support the clearance of a Management Information System for the Informal Science Education (ISE) program. The goals for the program are to encourage and support projects that (1) Engage the interest of children and adults in science, technology, engineering, and mathematics (STEM) in daily life so that they develop capabilities; scientific and technological literacy, mathematical competence, problem-solving skills, and the desire to learn; (2) bring together individuals and organizations from the informal and formal education communities, as well as from the private and public sectors, to strengthen STEM education in all settings; and (3) develop and implement innovative strategies that support the development of a socially responsible and informed public, and demonstrate promise of increasing participation of all citizens in STEM.

The ISE Management Information System is comprised of three Web-based surveys, an initial survey that obtains background information about the ISE project, an annual survey, and a final survey. The survey that obtains background information would be completed soon after project grants are awarded (i.e., within 45 days), the annual would be completed at the end of each program year, and the final would be completed soon after the ISE grant period has ended (i.e., within 45 days). Through the use of these three surveys, the system will collect data from each ISE-funded project about the project, its grant recipient and partner organizations, participants, activities, deliverables, and impacts. Information from the system will be used by ISE program officers to evaluate the collective impact of the ISE portfolio of funded projects, to monitor project-related activities and projects' progress over time, and to obtain information that can inform the design of future ISE projects.

Expected Respondents

The expected respondents are principal investigators of any ISE projects that have been funded since 2004.

Burden on the Public

The estimated annual response burden is 2,508 person-hours. The estimated annual response burden has increased from the original request for clearance in 2006. In 2006, the annual burden was estimated at 1,920 hours. The reason for this change is the inclusion of additional ISE project types in the OPMS that were not included in prior rounds of data collection. Whereas only full-scale development and broad implementation projects were included in the 2006 estimates, the ISE program has added several new project types to its project portfolio, including Pathways, EAGER, and RAPID awards, all of which will be asked to complete the OPMS. In addition, the program has decided to include several categories of pre-existing ISE awards (i.e., Research, CRPA, Conferences) in the OPMS for the first time, which represents a change in policy from prior years. The inclusion of these categories will allow the ISE program to generate an exhaustive set of information about ISE-funded projects, regardless of their size or scope, on an annual basis.

In all cases, the respondents are PIs on ISE-supported projects. Burden hours per response are estimated on the basis of discussions with NSF program officers, a sample of ISE PIs, and experience in administrating similar surveys. The calculations used to determine the overall response burden of 2,508 hours are shown in the table. The differences in the number of hours per respondent type shown in the table are due to the fact that Research, Pathways, CRPA, Conference, EAGER, and RAPID awards are exempt from the section in the OPMS pertaining to project impacts.

Calculations Used to Estimate Overall Response Burden for the ISE Online Collection ¹
Respondent type | Number of respondents | Hours per respondent type | Annual person hour total
Initial submission:
PIs—Full-scale and Broad Implementation | 23 | 24 | 552
PIs—Research, Pathways, CRPA | 17 | 16 | 272
PIs—Conferences, EAGER, RAPID | 15 | 16 | 240
Annual report:
PIs—Full-scale and Broad Implementation | 69 | 8 | 552
PIs—Research, Pathways, CRPA | 51 | 4 | 204
PIs—Conferences, EAGER, RAPID | 0 | N/A | 0
Closeout report:
PIs—Full-scale and Broad Implementation | 23 | 16 | 368
PIs—Research, Pathways, CRPA | 17 | 10 | 170
PIs—Conferences, EAGER, RAPID | 15 | 10 | 150
Total | 230 |  | 2,508
¹ Estimates are provided for a typical annual collection cycle. Hours per respondent type figures and annual person hour totals are based on an average duration of 3.5 years for all award types excluding Conference, EAGER, and RAPID awards (i.e., 40 awards per year). Conference, EAGER, and RAPID awards each have an average duration of 1 year. Therefore, the 69 Full-scale and Broad Implementation respondents listed as completing an annual report are comprised of those projects who received Full-scale and Broad Implementation awards (23 each year) during the prior three years. Similarly, the 51 Research, Pathways, and CRPA respondents listed as completing an annual report are comprised of those projects who received these types of awards (17 each year) over the prior three years.

Dated: July 14, 2009.
Suzanne H. Plimpton,
Reports Clearance Officer, National Science Foundation.

[FR Doc. E9-17102 Filed 7-17-09; 8:45 am]

BILLING CODE 7555-01-P